DEPARTMENT OF ENERGY

Federal Energy Regulatory Commission

[Docket No. OR00-8-000]

Ultramar Diamond Shamrock Corporation and Ultramar Inc., Complainants v. SFPP, L.P., Respondent; Notice of Complaint

August 18, 2000.

Take notice that on August 17, 2000, pursuant to Rule 206 of the Commission's Rules of Practice and Procedure (18 CFR 385.206) and the Procedural Rules Applicable to Oil Pipeline Procedures (18 CFR 343.1(a)), Ultramar Diamond Shamrock Corporation and Ultramar Inc. (collectively referred to herein as Ultramar), tendered for filing a Complaint in the captioned proceeding. Ultramar alleges that SFPP, L.P. (SFPP) has violated and continues to violate the Interstate Commerce Act, 49 U.S.C. App 1 et seq. by charging unjust and unreasonable rates as it respects all of SFPP's jurisdictional interstate services associated with its East, West, North, and Oregon Lines as more fully set forth in the complaint.

Ultramar respectfully requests that the Commission: (1) Examine SFPP's challenged rates and charges for all its jurisdictional interstate services and declare that such rates and charges are unjust and unreasonable; (2) order refunds and/or reparations to Ultramar, including appropriate interest thereon, for the applicable refund and/or reparation periods to the extent the Commission finds that such rates and charges are unlawful; (3) determine just, reasonable, and nondiscriminatory rates for all of SFPP's jurisdictional interstate services; (4) award Ultramar reasonable attorney's fees and costs; and (5) order such other relief as may be appropriate.

Ultramar states that it has served the Complaint on SFPP. Pursuant to Rule 343.4 of the Commission's Procedural Rules Applicable to Oil Pipeline Proceedings, SFPP's response to this Complaint is due within 30 days of the filing of the Complaint.

Any person desiring to be heard or to protest such filing should file a motion to intervene or a protest with the Federal Energy Regulatory Commission, 888 First Street, N.E., Washington, D.C. 20426, in accordance with Rules 211 and 214 of the Commission's Rules of Practice and Procedure (18 CFR 385.211 and 385.214). All such motions and protests should be filed on or before September 7, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-21660 Filed 8-23-00; 8:45 am]

BILLING CODE 6717-01-M